DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Monitoring of National Suicide Prevention Lifeline (OMB No. 0930-0274)—Revision

This proposed project renewal includes the continuation of previously approved data collection activities Monitoring of National Suicide Prevention Lifeline Form (OMB No. 0930-0274) in an effort to advance the understanding of crisis hotline utilization and its impact. Out of the previously approved 11 data collection instruments and consents, only 6 will be utilized through this revision. The Substance Abuse and Mental Health Services Administration's (SAMHSA), Center for Mental Health Services (CMHS) funds a National Suicide Prevention Lifeline Network, consisting of a toll-free telephone number that routes calls from anywhere in the United States to a network of local crisis centers. In turn, the local centers link callers to local emergency, mental health, and social service resources.

The overarching purpose of the proposed Monitoring of National Suicide Prevention Lifeline—Revision is to examine the impact of motivational training and safety planning (MI/SP) with callers who have expressed suicidal desire (i.e., follow-up interviews with callers and counselors). In total this effort includes three data collection instruments and three associated data collection consents.

Clearance is being requested to continue the previously approved data collection activities to continue caller and counselor follow-up assessment activities which will examine the process and impact of motivational training and safety planning (MI/SP) with callers who have expressed suicidal ideation. The data collected through the renewal of these data collection activities will ultimately help SAMHSA to understand and direct their crisis hotline lifesaving initiatives. The data collection activities are enumerated below.

Funded crisis centers will train counselors to implement an intervention with callers during the initial call to a center, which incorporates aspects of motivational interviewing and safety planning (MI/SP) and utilizes an evidence-based practice model to provide follow-up to callers who have expressed a suicidal desire. An assessment of MI/SP fidelity and process measures will be incorporated into the design through the administration of two self-administered questionnaires to crisis center counselors. The impact assessment of MI/SP counselor training will include follow-up telephone interviews with callers to assess their emotions and behaviors following their interaction with the MI/SP trained counselor.

(1) The MI/SP Counselor Attitude Questionnaire attitude questionnaire will be administered to counselors at the conclusion of their MI/SP training and be used as a possible predictor of fidelity of the MI//SP intervention. Information to be gathered includes (a) counselors' views of the applicability of the MI/SP for preparing them to conduct safety planning and follow up with callers; (b) possible anticipated challenges (i.e., impeding factors) to applying the MI/SP training in their centers; (c) the relationship of the MI/SP model to their centers; (d) the extent to which trainees are provided with or obtain adequate resources to enable them to use MI/SP on the job; (e) impeding and facilitating factors; and (f) attitudes about counselors' self-efficacy to use MI/SP and views on its utility. It is expected that a total of 750 counselors will be trained over the course of 3 years in an effort to maintain 175 counselors at any given time. Thus, a total of 750 counselors are expected to complete this questionnaire during the 3-year data collection period. Prior to collecting data from counselors, crisis counselors must have read and signed the MI/SP Counselor Consent. This form explains the purpose of the data collection, privacy, risks and benefits, what the data collection entails, and participant rights. It is anticipated that 750 consents and questionnaires will be collected by crisis counselors during the 3-year data collection period.

(2) At the end of the call and once the counselor deems the intervention to be complete, counselors will ask all appropriate callers, using the MI/SP Caller Initial Script, for permission to be re-contacted by research staff for a follow-up interview. Counselors will state that the caller may be contacted by the research team if randomly selected for a follow-up call. A total of 1,500 callers across the 3-year data collection period will be provided with the MI/SP Caller Initial Script for their consent to be contacted at a later time.

(3) Counselors will be asked to complete the MI/SP Counselor Follow-up Questionnaire for each call that is eligible. The questionnaire will incorporate an assessment of the outreach, telephonic follow up and/or other strategies that the center has proposed to implement, and whether the counselor was able to implement the center's site plan as originally conceived. The questionnaire will also include items on the demographic characteristics of the caller, whether contact was successfully made with the caller, whether the caller followed through with the safety plan and/or referral given by the counselor, whether MI/SP was re-implemented during the follow-up contact, whether another follow-up is scheduled, the educational and crisis experience of the person attempting re-contact with the caller, and that person's prior experience with follow-up. Barriers to implementing the follow-up, as well as types of deviation from the site's follow-up plan will also be assessed. Open-ended questions about what led to deviations from the site's follow-up plan will also be included. In total, it is expected that counselors will complete 3,750 questionnaires across the 3-year data collection period.

(4) Researchers will begin conducting follow-up interviews with callers approximately 6 weeks after the initial call to the center. This follow-up telephone interview (MI/SP Caller Follow-up Interview) will be conducted to collect information on demographic characteristics, gather caller feedback on the initial call made to the center, suicide risk status at the time of and since the call, current depressive symptomatology, follow through with the safety plan and referrals made by the crisis counselor, and barriers to service. Prior to collecting information during the MI/SP Caller Follow-up Interview, researchers will read callers the MI/SP Caller Follow-up Consent Script. Taking into account attrition and the number of callers who do not give consent, it is expected that the total number of follow-up interviews conducted by the research team will not exceed 1,107.

The estimated response burden to collect this information is as follows annualized over the requested 3-year clearance period is presented below:

Annualized Averages: Respondents, Responses and Hours
Instrument | Number of respondents | Number of responses per respondent * | Total number of responses | Burden/ Response (hours) | Annual burden* (hours)
MI/SP Caller Initial Script | 500 | 1 | 500 | .08 | 40
MI/SP Caller Follow-up Consent Script | 369 | 1 | 369 | .17 | 63
MI/SP Caller Follow-up Interview | 369 | 1 | 369 | .67 | 247
MI/SP Counselor Consent | 250 | 1 | 250 | .08 | 20
MI/SP Counselor Attitudes Questionnaire | 250 | 1 | 250 | .25 | 63
MI/SP Counselor Follow-up Questionnaire | 250 | 5 | 1250 | .17 | 213
Total | 1,988 |  |  |  | 646
* rounded to the nearest whole number

Written comments and recommendations concerning the proposed information collection should be sent by March 14, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-03197 Filed 2-11-13; 8:45 am]

BILLING CODE 4162-20-P